DEPARTMENT OF HEALTH AND HUMAN SERVICES

Administration for Children and Families

[CFDA Number: 93.293]

Announcing the Award of a Single-Source Cooperative Agreement to the American Public Human Services Association for the Association of Administrators of the Interstate Compact on the Placement of Children (AAICPC) in Washington, DC

AGENCY: Children's Bureau, Administration on Children, Youth and Families, ACF, HHS.

ACTION: Notice of the award of a single-source cooperative agreement to the American Public Human Services Association to support the development and implementation of a national inter-jurisdictional Interstate Compact on the Placement of Children (ICPC) electronic system.

SUMMARY: The Administration for Children and Families (ACF), Administration on Children, Youth and Families (ACYF), Children's Bureau (CB), Division of Capacity Building announces the award of a single-source cooperative agreement in the amount of $1,250,000 to the American Public Human Services Association for its affiliate the Association of Administrators of the Interstate Compact on the Placement of Children (AAICPC), Washington, DC, for the development and implementation of an inter-jurisdictional electronic system to improve administrative efficiency in the interstate process of the ICPC. The ICPC ensures safe and suitable interstate placements for children in foster care.

Award funds will support the development and implementation of a national inter-jurisdictional Interstate Compact on the Placement of Children (ICPC) electronic system to improve administrative efficiency in the interstate process via the ICPC.

This pilot, “Supporting Permanent Placement of Foster Care Children Through Electronic Records Exchange,” implements real-time, on-line data exchange for States to share records and other information to support permanent placements of foster care children in homes across state lines. The Association of Administrators of the Interstate Compact on the Placement of Children (AAICPC) has identified current paper-based processes as causing excessive delays. Children may wait an unnecessarily long time for the paperwork for placement in a permanent home to be executed manually. The pilot will test whether an automated system reduces the time to process such cross-state exchanges to determine whether a placement is safe and suitable.

The pilot evaluation will measure timeliness of communication, expeditious exchange of case documentation and similar immediate outcomes as well as utilization and adherence to streamlined ICPC processes. Additional questions, such as those related to the permanency of child placements and the associated savings, may be addressed if it is feasible to do so within the project period. Results, which will be included in a final public report, will inform further adoption of the system across states.

The initial pilot will include at least 5 states and ultimately, beyond the pilot period, the system will be used by all 50 states, the District of Columbia and the U.S. Virgin Islands (ICPC Compact Members). The system will serve and benefit children, families, the public, private and tribal child welfare agencies nationwide and other multidisciplinary groups that work in support of the and throughout the child placement continuum.

DATES: The 17 month period of support for this award is September 30, 2013 through February 28, 2015.

FOR FURTHER INFORMATION CONTACT: June Dorn, National Adoption Specialist, Division of Capacity Building, 1250 Maryland Avenue SW., Suite 8150, Washington, DC 20024. Telephone: 202-205-9540; Email: June.Dorn@acf.hhs.gov.

SUPPLEMENTARY INFORMATION: The Partnership Fund, administered by the Office of Management and Budget (OMB), supports pilot projects that test improvements in how Federal assistance programs are administered. The pilot projects address the four goals of improving service delivery, improving payment accuracy, improving administrative efficiency and reducing barriers to access for eligible people. Using $32.5 million appropriation, the Partnership Fund allows Federal, state, and local government agencies to pilot innovative ideas in a controlled environment. Pilot projects funded by the Partnership Fund address Federal assistance programs that have a substantial State role in eligibility determination or administration, or where Federal-State cooperation could otherwise be beneficial. Ideas for pilots are developed through a collaborative process involving Federal, state, local, and private stakeholders. The OMB consults with a Federal Steering Committee to select pilots for funding. Funds are then transferred to lead Federal agencies, which in turn select states and localities to implement each pilot. Based on careful evaluation, successful pilots serve as models for other states and agencies and inform future policy decisions by the Administration and Congress.

Statutory Authority: The transfer of funding from the Partnership Fund for Program Integrity Innovation by the OMB to Federal agencies is authorized by the Consolidated Appropriations Act, 2010 (Pub. L. 111-117) and the Consolidated Appropriations Act, 2012 (Pub. L. 112-74)

Joseph Bock,
Associate Acting Commissioner, Administration on Children, Youth and Families.

[FR Doc. 2013-21755 Filed 9-6-13; 8:45 am]

BILLING CODE 4184-01-P